ENVIRONMENTAL PROTECTION AGENCY

[ER-FRL-6623-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated May 18, 2001 (66 FR 27164).

Draft EISs

ERP No. D-AFS-J65342-00 Rating EC2, Wasatch-Cache National Forest Revised Land and Resource Management Plan, Implementation, several counties, UT and Uinta County, WY.

Summary: EPA expressed environmental concerns associated with user-created trails, and with inadequate protection of areas with wilderness values. These impacts, especially to water quality and biodiversity should be reduced, avoided or mitigated to meet the purpose and need and to protect ecosystem function.

ERP No. D-AFS-L65381-ID Rating EC2, Caribou National Forest Land and Resource Management Plan, Implementation Revised Forest Plan, Bannock, Bear Lake. Bingham, Bonneville, Caribou, Franklin, Oneida and Power Counties, Cache and Rich Counties, UT, Lincoln County, WY.

Summary: EPA expressed environmental concerns about the inadequacies of the cumulative effects analysis and explanations of environmental consequences among the alternatives, and about the lack of discussion on further selenium impacts.

ERP No. D-AFS-L65389-OR Rating EC2, Shore ‘Nuf Timber Sale, Timber Harvesting on the Detroit Ranger District, Willamette National Forest, Linn and Marion Counties, OR

Summary: EPA expressed environmental concerns with the lack of discussion on residual smoke expected to affect downwind communities as well as how the Forest Service (FS) will meet its obligations under the Safe Drinking Water Act. EPA requested that the FS identify a pre-burn action plan, collaborate with local and state agencies to protect water sources, and complete a survey for mollusks and the red tree vole.

ERP No. D-BLM-K65231-CA Rating LO, Northern and Eastern Mojave Planning Area (NEMO), Implementation, California Desert Conservation Area Plan Amendments, Mojave Desert, CA.

Summary: EPA had no objections to the proposed plan amendments, and recommended that BLM provide beneficial use designations for travel routes to be retained in the planning area.

ERP No. D-FHW-B50013-RI Rating EC2, Sakonnet River Bridge Rehabilitation or Replacement Project, Portsmouth & Tiverton, Newport County, RI.

Summary: EPA expressed environmental concerns and asked the FHWA/RIDOT to expand the analysis of stormwater controls, to evaluate means to better control emissions from diesel construction equipment, to consider end of pipe pollution control retrofits for construction equipment and to make sure the project is designed to avoid precluding future commuter rail service to the area.

ERP No. D-FHW-C40154-NY Rating EC2, Interstate 86/Route 15 Interchange and Route 15/Gang Mills Interchange, New Roadway and Ramp Construction, Intersection Reconstruction, New Bridges and Bridge Rehabilitation, Town of Erwin, Steuben County, NY.

Summary: EPA raised environmental concerns regarding indirect impacts to wetlands.

ERP No. D-FHW-E40790-00 Rating EC2, Corridor 19/Interstate 69 Proposed Improvements from the U.S. 412/U.S. 51 Interchange to the U.S. 51 Fulton Bypass/Purchase Parkway Interchange, Dyer and Obion Counties, TN and Fulton County, KY.

Summary: EPA had environmental concerns about potential water quality, environmental justice, and secondary and cumulative impacts in the study area, specifically related to connected roadway improvements and other segments of the proposed I-69.

ERP No. D-FHW-K40247-CA Rating EC2, CA-22/West Orange County Connection Project, Transportation Improvements between Interstate 605 and State Route 55, In the cities of Los Alamitos, Seal Beach, Garden Grove, Westminster, Santa Ana, and Orange, Orange County, CA.

Summary: EPA expressed environmental concerns regarding a lack of air quality mitigation for criteria air pollutants, potential impacts due to hazardous air pollutants from project construction and operation, and environmental justice. EPA asked that the Final EIS provide additional information on these issues and include appropriate mitigation measures.

ERP No. D-FRC-K03025-00 Rating EC2, North Baja Pipeline Project, Docket Nos. CP01-22-000 and CP01-23-000, Construction and Operation A New Natural Gas Transmission Pipeline, Land Use Plan Amendment, Right-of-Way Grant, NPDES, COE Section 10 and 404 Permits, La Praz and Yuma Counties, AZ and Imperial, Kern, Riverside, Palo Verde, San Bernardino and San Diego Counties.

Summary: EPA expressed environmental concerns regarding the need for more comprehensive disclosure of impacts from the proposed action, particularly impacts to air and water quality.

ERP No. DA-COE-K36100-CA Rating EC2, American River Watershed Long-Term Study, Updated Information, To Provide Flood Damage Reduction and Ecosystem Restoration, between Folson Dam and the Sacramento River, Sacramento, Placer and Sutter Counties, CA.

Summary: EPA expressed environmental concerns regarding the feasibility and acceptability of a detention dam to effects on unique natural resources of national significance on the North and Middle Forks of the American River. EPA also stated concerns regarding the alternatives analysis, compliance with Clean Water Act Section 404, cumulative impacts analysis, water supply and safety.

Final EISs

ERP No. F-COE-B32011-RI Providence River and Harbor Maintenance Dredging Project, To Restore the Navigation Efficiency, Providence River Shipping Channel, Narragansett Bay, RI.

Summary: EPA expressed environmental concerns related to the impacts of the preferred disposal site, the CAD cell, the Clean Water Act Section 404(b)(1) evaluation, project sequencing and monitoring. EPA recommended that additional information should be provided before the conclusion of the NEPA process.

ERP No. F-FAA-E51049-KY, Cincinnati/Northern Kentucky International Airport, Construction and Operation of a New 8,000-foot Runway 17/35 (Future 18R/36L); 2,000-foot Extension of Runway 9/27, Funding and Airport Layout Plan,(ALP) Boone County, KY.

Summary: EPA had remaining environmental concerns regarding noise, wetlands, cumulative impacts, induced impacts and other impacts, and recommended that these be addressed in the FAA ROD.

ERP No. F-NPS-F61019-MN, Voyageurs National Park General Management, Visitor Use and Facilities Plans, Implementation, Koochiching and St. Louis Counties, MN.

Summary: EPA continued to express environmental concerns over future management of the impacts to water quality from motorboat use, fueling stations and snowmobile use.

ERP No. FA-FHW-F40347-IL, FAP Route 340 Transportation Project, Construction from I-55 to I-80, Funding, US Coast Guard Permit and COE Section 404 Permit, Cook, Dupage and Will Counties, IL.

Summary: EPA continues to have environmental concerns with regard to indirect effects such as land use changes and with regard to cumulative effects to wetlands and other natural features. EPA recommended that the ROD discuss commitments that have been made at a local level to manage growth and its impacts on the environment.

Dated: November 13, 2001.
Joseph C. Montgomery,
Director, NEPA Compliance Division, Office of Federal Activities.

[FR Doc. 01-28746 Filed 11-15-01; 8:45 am]

BILLING CODE 6560-50-U